FEDERAL COMMUNICATIONS COMMISSION

47 CFR Parts 5, 25, 97

[IB Docket No. 18-313; Report No. 3158; FRS 17196]

Petitions for Reconsideration of Action in Proceedings

AGENCY: Federal Communications Commission.

ACTION: Petitions for reconsideration.

SUMMARY: Petitions for Reconsideration (Petitions) have been filed in the Commission's proceeding by David Goldman, on behalf of Space Exploration Technologies Corp.; Audrey L. Allison, on behalf of The Boeing Company; Jennifer A. Manner, on behalf of EchoStar Satellite Services, LLC and Hughes Network Services, LLC; Mike Safyan, on behalf of Planet Labs Inc.; Ananda Martin, on behalf of Spire Global, Inc.; Elisabeth Neasmith, on behalf of Telesat Canada; and Julie Zoller, et al., on behalf of Kuiper Systems, Inc.

DATES: Oppositions to the Petitions must be filed on or before November 24, 2020. Replies to an opposition must be filed on or before December 4, 2020.

ADDRESSES: Federal Communications Commission, 445 12th Street SW, Washington, DC 20554.

FOR FURTHER INFORMATION CONTACT: Merissa Velez, International Bureau, Satellite Division, (202) 418-0751.

SUPPLEMENTARY INFORMATION: This is a summary of the Commission's document, Report No. 3158, released October 6, 2020. Petitions may be accessed online via the Commission's Electronic Comment Filing System at: http://apps.fcc.gov/ecfs/. The Commission will not send a Congressional Review Act (CRA) submission to Congress or the Government Accountability Office pursuant to the CRA, 5 U.S.C. 801(a)(1)(A), because no rules are being adopted by the Commission.

Subject: Mitigation of Orbital Debris in the New Space Age, FCC 20-54, published 85 FR 52422, August 25, 2020, in IB Docket No. 18-313. This document is being published pursuant to 47 CFR 1.429(e). See also 47 CFR 1.4(b)(1) and 1.429(f), (g).

Number of Petitions Filed: 3.

Federal Communications Commission.
Cecilia Sigmund,
Federal Register Liaison.

[FR Doc. 2020-24731 Filed 11-6-20; 8:45 am]

BILLING CODE 6712-01-P